OFFICE OF PERSONNEL MANAGEMENT

Submission for OMB Review; Comment Request for Review of Expiring Information Collection Form: OPM-1386B

AGENCY: Office of Personnel Management.

ACTION: Notice.

SUMMARY: In accordance with the Paperwork Reduction Act of 1995 (Public Law 104-13, May 22 1995), this notice announces that the Office of Personnel Management (OPM) has submitted to the Office of Management and Budget a request for review of an expiring information collection form, OPM-1386B, Applicant Race and National Origin Questionnaire. This form is used to gather information concerning the race and national origin of applicants for employment under the Outstanding Scholar provision of the Luevano Consent Decree, 93 F.R.D. 68 (1981).

During the sixty-day comment period, OPM received two comments. The first comment stated that OPM should provide the OPM-1386B form electronically on OPM's website for applicants to complete and e-mail to the proper agency. It is our intent to provide the form electronically on the OPM website for agencies to download and distribute. The second stated that applicants should submit their information directly to OPM. In the section titled “Monitoring, Recordkeeping and Reporting,” of the Luevano Consent Decree it specifically states that agencies will be responsible for collecting, maintaining, and compiling statistics on the special programs.

Approximately 100,000 OPM-1386B forms are completed annually. The 60-day Federal Register Notice reported an incorrect response time of 8 minutes. The correct estimated response time is 5 minutes with an annual public burden of 8,333 hours.

For copies of this proposal, contact Mary Beth Smith-Toomey on (202) 606-8358, FAX (202) 418-3251 or e-mail to mbtoomey@opm.gov. Please include a mailing address with the request.

DATES: Comments on this proposal should be received within 30 calendar days from the date of this publication.

ADDRESSES: Send or deliver comments to:

Suzy M. Barker, Director, Examining & Qualifications Policy Division, Employment Service, U.S. Office of Personnel Management, 1900 E Street, NW., Room 6500, Washington, DC 20415

and

Joseph Lackey, OPM Desk Officer, Office of Information and Regulatory Affairs, Office of Management and Budget, New Executive Office Building, NW., Room 10235, Washington, DC 20503

Office of Personnel Management.
Kay Coles James,
Director.

[FR Doc. 01-24566 Filed 10-1-01; 8:45 am]

BILLING CODE 6325-38-P